FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 4, 2019.

A. Federal Reserve Bank of Kansas City (Dennis Denney, Assistant Vice President) 1 Memorial Drive, Kansas City, Missouri 64198-0001:

1. The RFB-FLB Trust, U/A/D October 25, 2016, and Frances L. Biolchini, as Trustee, both of Kelly, Wyoming; to retain shares of and to be approved as members of the Biolchini Family Group. Additionally, Robert Biolchini, Jr., Jackson, Wyoming; Douglas Biolchini, Walla Walla, Washington; Frances Biolchini Fleming, Kelly, Wyoming; Thomas Biolchini, Tulsa, Oklahoma; Tobin Biolchini, Kelly, Wyoming; Christi Biolchini Yanelli, Jackson, Wyoming; and the Robert F. Biolchini & Frances L. Biolchini Irrevocable Education Trust for Lucy Rose Biolchini, the Robert F. Biolchini & Frances L. Biolchini Irrevocable Education Trust for Maximiliam Michael Fleming, the Robert F. Biolchini & Frances L. Biolchini Irrevocable Education Trust for Sophia Grace Fleming, and the Robert F. Biolchini & Frances L. Biolchini Irrevocable Education Trust for Paul Christopher Biolchini, all of Tulsa, Oklahoma as members of the Biolchini Family Group; to retain shares of Bancshares of Jackson Hole, Incorporated and thereby indirectly retain shares of Bank of Jackson Hole, Jackson, Wyoming.

Board of Governors of the Federal Reserve System, March 13, 2019.
Yao-Chin Chao,
Assistant Secretary of the Board.

[FR Doc. 2019-05026 Filed 3-15-19; 8:45 am]

BILLING CODE P